Proclamation 7466 of September 17, 2001

Citizenship Day and Constitution Week, 2001

By the President of the United States of America

A Proclamation

As the delegates to the 1787 Constitutional Convention in Philadelphia began working on what would become the United States Constitution, they grasped that a great democracy must be built on the twin foundations of national consent to a Federal Government and respect for individual rights. After more than two centuries of continual cultural, legal, and economic change, our unique experiment in self-government has borne successful witness to the prescient genius and timeless wisdom of our Founding Fathers. Throughout America's history, in times of turmoil and peace, liberty and oppression, our faith in the Constitution's promise of freedom and democracy has been a steadfast rock of national stability against the raging seas of political change. Today, in the face of the terrorist attacks of September 11, 2001, we must call upon, more than ever, the Constitutional principles that make our country great.

In creating our Nation's Constitutional framework, the Convention's delegates recognized the dangers inherent in concentrating too much power in one person, branch, or institution. They wisely crafted a Government that balanced the functions and authority of a Federal system among three separate but equal branches: the Executive, the Legislative, and the Judicial. As a further check on central power, the Framers granted citizens the right to vote, giving them the power to express their political preferences peacefully and thereby to effect change in the Government.

The Convention delegates ratified the Constitution on September 17, 1787, and submitted it to the States for approval. After much deliberation and discussion at the State level, the following two concerns emerged from among those who feared the Constitution's proposed centralization of Federal power: (1) the threat of tyranny; and (2) the loss of local control. To address these fears, our Founders amended the Constitution by adding a Bill of Rights. These ten amendments provided a series of clear limits on Federal power and a litany of protective rights to citizens. This development underscored the important and enduring Constitutional principle of enumerated powers, and it set our national course on a route that would eventually enhance and expand individual rights and liberties.

Today, our Nation celebrates not only the longest-lived written Constitution in world history, but also the enduring commitment of our forebears who upheld the Constitution's core principles through the travails of American history. They pursued a more perfect Union as abolitionists, as suffragists, or as civil rights activists, successfully seeking Constitutional amendments that have strengthened the protections provided to all Americans under law. In so doing, they rendered the moral resolve of our Nation stronger and clearer.

Our Republic would surely founder but for the faith and confidence that we collectively place in our Constitution. And it could not prosper without our diligent commitment to upholding the Constitution's original words and implementing its founding principles. From the noble efforts of public servants to the civic acts of local people, our continuous Constitutional engagement has proved to be an exceptional feature of our Nation's prosperous development.

To continue this legacy, each of us must recognize that we bear a solemn responsibility to promote the ideals of freedom and opportunity throughout our land. We each should serve our Nation by actively supporting and shaping our Government's institutions, by working together to build strong communities, and by loving our neighbors. Doing this will ensure that the American dream will become real for every willing citizen; and, in fulfilling this call together, we will honor the spirit of our powerful and enduring Constitution.

The Congress, by joint resolution of February 29, 1952 (36 U.S.C. 106), designated September 17 as “Citizenship Day,” and by joint resolution of August 2, 1956 (36 U.S.C. 108), requested that the President proclaim the week beginning September 17 and ending September 23 of each year as “Constitution Week.”

NOW, THEREFORE, I, GEORGE W. BUSH, President of the United States of America, by virtue of the authority vested in me by the Constitution and laws of the United States, do hereby proclaim September 17, 2001, as Citizenship Day and September 17 through September 23, 2001, as Constitution Week. I encourage Federal, State, and local officials, as well as leaders of civic, social, and educational organizations, to conduct ceremonies and programs that celebrate our Constitution and reaffirm our commitment as citizens of our great Nation.

IN WITNESS WHEREOF, I have hereunto set my hand this seventeenth day of September, in the year of our Lord two thousand one, and of the Independence of the United States of America the two hundred and twenty-sixth.

B

[FR Doc. 01-23621

Filed 09-18-01; 12:17 pm]

Billing code 3195-01-P